OFFICE OF PERSONNEL MANAGEMENT

January 2012 Pay Schedules

AGENCY: U.S. Office of Personnel Management.

ACTION: Notice.

SUMMARY: The President has signed an Executive order containing the 2012 pay schedules for certain Federal civilian employees. The rates of pay for these employees will not be increased in 2012 and remain at 2010/2011 levels, except for employees in nonforeign areas. This notice serves as documentation for the public record.

FOR FURTHER INFORMATION CONTACT: Lisa Dismond, Pay and Leave, Employee Services, U.S. Office of Personnel Management; (202) 606-2858; Fax (202) 606-0824; or email to pay-leave-policy@opm.gov

SUPPLEMENTARY INFORMATION: On December 19, 2011, the President signed Executive Order 13594 (76 FR 80191), which documented the January 2012 pay schedules. Pursuant to Public Law 111-242, as amended by Public Law 111-322 (December 22, 2010), the Executive order provides that the 2012 pay rates for most civilian employee pay schedules covered by the order are not adjusted and remain at 2010/2011 levels. Schedule 1 of Executive Order 13594 provides the rates for the 2012 General Schedule (GS) and reflects no increase from 2010/2011. Executive Order 13594 also includes the percentage amounts of the 2012 locality payments, which remain at 2010/2011 levels except for employees in nonforeign areas. (See Section 5 and Schedule 9 of Executive Order 13594.)

The publication of this notice satisfies the requirement in section 5(b) of Executive Order 13594 that the U.S. Office of Personnel Management (OPM) publish appropriate notice of the 2012 locality payments in the Federal Register.

GS employees receive locality payments under 5 U.S.C. 5304. Locality payments apply in the United States (as defined in 5 U.S.C. 5921(4)) and its territories and possessions. In 2012, locality payments ranging from 14.16 percent to 35.15 percent apply to GS employees in the 34 locality pay areas. The 2012 locality pay area definitions can be found at http://www.opm.gov/oca/12tables/locdef.asp.

The 2012 locality pay percentages became effective on the first day of the first pay period beginning on or after January 1, 2012 (January 1, 2012). An employee's locality rate of pay is computed by increasing his or her scheduled annual rate of pay (as defined in 5 CFR 531.602) by the applicable locality pay percentage. (See 5 CFR 531.604 and 531.609.) As provided under the Nonforeign Area Retirement Equity Assurance Act of 2009 (subtitle B of title XIX of the National Defense Authorization Act for Fiscal Year 2010 (Pub. L. 111-84, October 28, 2009)), the locality rate for each nonforeign area will be set at the full applicable locality rate in January 2012. Employees in nonforeign areas entitled to cost-of-living allowances (COLAs) (i.e., Alaska, Hawaii, and other nonforeign areas as defined in 5 CFR 591.207) have corresponding reductions in their COLAs when locality rates increase.

Executive Order 13594 documents that the Executive Schedule rates of pay remain at the 2010/2011 levels. By law, Executive Schedule officials are not authorized to receive locality payments.

Executive Order 13594 documents the 2012 range of rates of basic pay for members of the Senior Executive Service (SES) under 5 U.S.C. 5382. The minimum rate of basic pay for the SES remains at $119,554 in 2012. The maximum rate of the SES rate range continues to be $179,700 (level II of the Executive Schedule) for SES members covered by a certified SES performance appraisal system and $165,300 (level III of the Executive Schedule) for SES members covered by an SES performance appraisal system that has not been certified.

The minimum rate of basic pay for the senior-level (SL) and scientific and professional (ST) rate range remains at $119,554 in 2012. The applicable maximum rate of the SL/ST rate range continues to be $179,700 (level II of the Executive Schedule) for SL or ST employees covered by a certified SL/ST performance appraisal system and $165,300 (level III of the Executive Schedule) for SL or ST employees covered by an SL/ST performance appraisal system that has not been certified. Agencies with certified performance appraisal systems in 2012 for SES members and employees in SL and ST positions also must apply a higher aggregate limitation on pay—up to the Vice President's salary ($230,700 in 2012, the same level as in 2010/2011).

Executive Order 13594 provides that the rates of basic pay for administrative law judges (ALJs) under 5 U.S.C. 5372 are not increased in 2012. The rate of basic pay for AL-1 remains at $155,500 (equivalent to the rate for level IV of the Executive Schedule). The rate of basic pay for AL-2 remains at $151,800. The rates of basic pay for AL-3/A through 3/F continue to range from $103,900 to $143,700.

The rates of basic pay for members of Contract Appeals Boards are calculated as a percentage of the rate for level IV of the Executive Schedule. (See 5 U.S.C. 5372a.) Therefore, these rates of basic pay are not increased in 2012.

On October 28, 2011, the Director of OPM issued a memorandum on behalf of the President's Pay Agent (the Secretary of Labor and the Directors of the Office of Management and Budget (OMB) and OPM) that continues GS locality payments for ALJs and certain other non-GS employee categories in 2012. By law, officials paid under the Executive Schedule, SES members, employees in SL/ST positions, and employees in certain other equivalent pay systems are not authorized to receive locality payments. (Note: An exception applies to certain grandfathered SES, SL, and ST employees stationed in a nonforeign area on January 2, 2010.) Except for employees in nonforeign areas, the locality payments continued for non-GS employees have not been increased in 2012. The memo is available at http://www.opm.gov/flsa/oca/11tables/Extend_2012.pdf.

On December 21, 2011, OPM issued a memorandum (CPM 2011-21) on the Executive order for the 2012 pay schedules. (See http://www.opm.gov/oca/compmemo/index.asp.) The memorandum transmitted Executive Order 13594 and provided the 2012 salary tables, locality pay areas and percentages, and information on general pay administration matters and other related information. The “2012 Salary Tables” posted on OPM's Web site at www.opm.gov/oca/12tables/index.asp are the official rates of pay for affected employees and are hereby incorporated as part of this notice.

U.S. Office of Personnel Management.
John Berry,
Director.

[FR Doc. 2012-4544 Filed 2-24-12; 8:45 am]

BILLING CODE 6325-39-P